DEPARTMENT OF HOUSING AND URBAN DEVELOPMENT

[Docket No. FR-5039-N-02]

Notice of Proposed Information Collection: Comment Request Fair Housing Initiatives Program Grant Application and Monitoring Reports

AGENCY: Office of the Assistant Secretary for Fair Housing and Equal Opportunity (FHEO), Department of Housing and Urban Development (HUD).

ACTION: Notice.

SUMMARY: The proposed information collection requirement described below will be submitted to the Office of Management and Budget (OMB) for review, as required by the Paperwork Reduction Act of 1995. The Department is soliciting public comments on the subject proposal.

DATES: Comment Due Date: October 24, 2006.

ADDRESSES: Interested persons are invited to submit comments regarding this proposed information collection requirement. Comments should refer to the proposal by name and/or OMB Control Number, and should be sent to: Myron Newry, Director, FHIP Support Division, Office of Programs, Department of Housing and Urban Development, 451 Seventh Street, SW., Room 5222, Washington, DC 20410-2000.

FOR FURTHER INFORMATION CONTACT: Myron Newry, Director, FHIP Support Division, Office of Programs, Department of Housing and Urban Development, 451 Seventh Street, SW., Room 5222, Washington, DC 20410-2000; telephone: (202) 708-0800 (this is not a toll free number). (Hearing or speech-impaired individuals may access this number via TTY by calling the toll-free Federal Information Relay Service at: 1-800-877-8339.)

SUPPLEMENTARY INFORMATION: The Department is submitting this proposed information collection requirement to the OMB for review, as required under the Paperwork Reduction Act of 1995 [44 U.S.C. Chapter 35, as amended]. Required forms for applicants were approved under Departmental clearance under the SuperNOFA process. We have included three new quarterly reporting forms for your review. These forms replace information that had previously been supplied in narrative format.

This notice solicits comments from members of the public and affected agencies concerning the proposed information collection in order to: (1) Evaluate whether the proposed information collection is necessary for the proper performance of the Department's program functions; (2) Evaluate the accuracy of the Department's assessment of the paperwork burden that may result from the proposed information collection; (3) Enhance the quality, utility and clarity of the information which must be collected; and (4) Minimize the burden of the information collection on responders, including the use of appropriate automated collection techniques or other forms of information technology (e.g., electronic transmission of data).

Title of Regulation: 24 CFR Part 125, Fair Housing Initiatives Program.

OMB Control Number, if applicable: 2529-0033.

Description of the need for the information and proposed use: This is a revision of the currently approved information collection for selecting applicants for the Fair Housing Initiatives Program (FHIP) grants that will be part of the Notice of Funding Availability (NOFA). These grants are to fund fair housing enforcement and/or education and outreach activities under the following initiatives: Administrative Enforcement; Private Enforcement, Education and Outreach, and Fair Housing Organizations. Information is also collected to monitor grants and grant funds. Proposed revisions to the currently approved information collection include: changes in the program description from “Fair Housing Initiatives Program Grant Application” to “Fair Housing Initiatives Program Grant Application and Monitoring Reports” and changing the application submission process from paper to electronic via the web. Monitoring reports will continue to be submitted manually in paper format. In the event that monitoring reports become electronic, HUD anticipates changes in the related paperwork reduction process at that time.

Agency form number(s), if applicable: Not applicable since HUD forms and formats were identified in the SuperNOFA General and FHIP Program Sections as well as the automated grant announcement.

Members of affected public: The collection of information involves Qualified Fair Housing Organizations (QFHOs); Fair Housing Organizations (FHOs); public or private non-profit organizations or institutions and other public or private entities that are working to prevent or eliminate discriminatory housing practices; State and local governments; and Fair Housing Assistance Program Agencies.

Estimation of the total numbers of hours needed to prepare the information collection including the number of respondents, frequency of response, and hours of response: An estimation of 48,444 total hours will be needed to prepare the information collection. The number of respondents is 400 with a frequency response of 1 per annum, and the total hours per respondent is 86.50 hours for application development. The estimated 104 agencies that will receive funding will be required to submit quarterly and final reports, with approximately 60 of those 104 agencies also required to submit quarterly Enforcement Logs and Narrative Reports. The estimated number of respondents is based on the average of the number of submissions for Fiscal Years 2000 to 2006. The number of hours is an average based on grantee estimates of time to review instructions, search existing data sources, prepare required responses to the application, complete the certification, and assemble exhibits.

Status of the proposed information collection: Revision of a currently approved collection.

Authority: The Paperwork Reduction Act of 1995, 44 U.S.C. Chapter 35, as amended.

Dated: August 10, 2006.
Bryan Greene,
Deputy Assistant Secretary for Enforcement and Program.

[FR Doc. E6-14086 Filed 8-24-06; 8:45 am]

BILLING CODE 4210-67-P